DEPARTMENT OF COMMERCE

International Trade Administration

[A-570-053]

Certain Aluminum Foil From the People's Republic of China: Deferral of Preliminary Determination of the Less-Than-Fair-Value Investigation

AGENCY: Enforcement and Compliance, International Trade Administration, Department of Commerce.

DATES: Applicable October 12, 2017.

FOR FURTHER INFORMATION CONTACT: Erin Kearney at (202) 482-0167, AD/CVD Operations, Enforcement and Compliance, International Trade Administration, Department of Commerce, 1401 Constitution Avenue NW., Washington, DC 20230.

SUPPLEMENTARY INFORMATION:

Background

On March 30, 2017, the Department of Commerce (the Department) initiated an antidumping duty investigation concerning imports of certain aluminum foil from the People's Republic of China (PRC).¹ On April 3, 2017, as part of the investigation of certain aluminum foil from the PRC, the Department initiated an inquiry into the status of the PRC as a nonmarket economy (NME) country, pursuant to section 771(18)(C)(ii) of the Tariff Act of 1930, as amended (the Act).²

¹ See Certain Aluminum Foil from the People's Republic of China: Initiation of Less-Than-Fair-Value Investigation, 82 FR 15691 (March 30, 2017) (Initiation Notice).

² See Certain Aluminum Foil from the People's Republic of China: Notice of Initiation of Inquiry into the Status of the People's Republic of China as a Nonmarket Economy Country Under the Antidumping and Countervailing Duty Laws, 82 FR 16162 (April 3, 2017) (NME Inquiry Initiation Notice).

The Initiation Notice stated that the Department, in accordance with section 733(b)(1)(A) of the Act and 19 CFR 351.205(b)(1), would issue its preliminary determination in this investigation no later than 140 days after the date of the initiation, unless postponed.³ On August 1, 2017, the Department postponed the deadline for the preliminary determination of this investigation by 50 days, until October 4, 2017, in accordance with section 733(c)(1)(A) of the Act and 19 CFR 351.205(b)(2).⁴

³ See Initiation Notice, 82 FR at 15695.

⁴ See Certain Aluminum Foil from the People's Republic of China: Postponement of Preliminary Determination of the Less-Than-Fair-Value Investigation, 82 FR 35753 (August 1, 2017).

Deferral of Preliminary Determination

In the NME Inquiry Initiation Notice, the Department solicited comments and information from interested parties and announced its intention to issue its final determination regarding the PRC's NME status prior to the issuance of the Department's preliminary determination in the less-than-fair-value investigation.⁵ To fully consider all information relevant to the inquiry into the status of the PRC as a NME country and issue a final determination, the Department requires additional time before issuing its preliminary determination in this investigation. For this reason, the Department is deferring the preliminary determination, and expects to issue the determination by November 17, 2017.

⁵ See NME Inquiry Initiation Notice, 82 FR at 16163.

In accordance with section 735(a)(1) of the Act, the deadline for the final determination of this investigation will continue to be 75 days after the date of the preliminary determination, unless postponed at a later date.

Dated: October 4, 2017.
Gary Taverman,
Deputy Assistant Secretary for Antidumping and Countervailing Duty Operations, performing the non-exclusive functions and duties of the Assistant Secretary for Enforcement and Compliance.

[FR Doc. 2017-22070 Filed 10-11-17; 8:45 am]

BILLING CODE 3510-DS-P